DEFENSE NUCLEAR FACILITIES SAFETY BOARD

Sunshine Act Meetings

FEDERAL REGISTER CITATION OF PREVIOUS ANNOUNCEMENT: The original notice for this meeting was published at 82 FR 55355 on November 21, 2017.

PREVIOUSLY ANNOUNCED TIME AND DATE OF THE MEETING: 10:00 a.m.-12:00 p.m., November 27, 2017.

CHANGES IN THE MEETING: This meeting will now occur over the course of two days. The first day is December 6, 2017, from 10:00 a.m. to 12:00 p.m. The second day is December 18, 2017, from 10:00 a.m. to 12:00 p.m.

CONTACT PERSON FOR MORE INFORMATION: Glenn Sklar, General Manager, Defense Nuclear Facilities Safety Board, 625 Indiana Avenue NW., Suite 700, Washington, DC 20004-2901, (800) 788-4016. This is a toll-free number.

Dated: November 30, 2017.
Joseph Bruce Hamilton,
Vice Chairman.

[FR Doc. 2017-26284 Filed 12-1-17; 4:15 pm]

BILLING CODE 3670-01-P